DEPARTMENT OF HOMELAND SECURITY

Coast Guard

33 CFR Part 117

[Docket No. USCG-2022-0222]

Drawbridge Operation Regulation; Okeechobee Waterway, Stuart, FL

AGENCY: Coast Guard, Department of Homeland Security (DHS).

ACTION: Notification of temporary deviation from regulations; cancellation.

SUMMARY: The Coast Guard is canceling the temporary deviation concerning the Florida East Coast (FEC) Railroad Bridge, mile 7.41, and the NW Dixie Highway Bridge, mile 7.5, across the Okeechobee Waterway (OWW), at Stuart, Florida. The cancellation will allow the Coast Guard to review and adjudicate the comments posted to determine whether this temporary deviation would meet the safe and reasonable needs of navigation while taking into consideration competing modes of transportation.

DATES: The temporary deviation published on June 8, 2023, 88 FR 37470, is cancelled as of August 11, 2023.

ADDRESSES: To view documents mentioned in this preamble as being available in the docket, go to https://www.regulations.gov. Type the docket number (USCG-2022-0222) in the “SEARCH” box and click “SEARCH”. In the Document Type column, select “Supporting & Related Material.”

FOR FURTHER INFORMATION CONTACT: If you have questions on this cancellation, call or email Ms. Jennifer Zercher, Bridge Management Specialist, Seventh Coast Guard District; telephone 305-415-6740, email Jennifer.N.Zercher@uscg.mil.

SUPPLEMENTARY INFORMATION: On June 8, 2023, we published a temporary deviation entitled “Drawbridge Operation Regulation; Okeechobee Waterway, Stuart, FL” in the Federal Register (88 FR 37470). The temporary deviation concerned the anticipated significant increase in railway activity across the FEC Railroad Bridge and the anticipated negative impact on safe and reasonable navigation under the current operating regulation. Given this concern, the Coast Guard issued a temporary deviation to the FEC Railroad Bridge and the adjacent NW Dixie Highway Bridge to allow the drawbridges to operate in concert and on a more predictable schedule. This action was taken to assist the Coast Guard in determining an operating schedule that would meet the safe and reasonable needs of navigation, taking into consideration other modes of transportation. This deviation from the operating regulations was authorized pursuant to 33 CFR 117.35(a).

This temporary deviation is being cancelled to allow the Coast Guard to review and adjudicate the comments posted to determine whether this temporary deviation would meet the safe and reasonable needs of navigation while taking into consideration competing modes of transportation. If we determine this temporary deviation was not effective, a second temporary deviation will be published in the Federal Register to test an alternate operating schedule. The NW Dixie Hwy Bridge has been removed from this docket to allow the Coast Guard to commence separate rulemaking for the highway bridge to operate on demand. In accordance with 33 CFR 117.35(e), the FEC Railroad Bridge must return to its regular operating schedule immediately upon the cancellation date of this deviation.

Dated: August 4, 2023.
Randall D. Overton,
Director, Bridge Administration, Seventh Coast Guard District.

[FR Doc. 2023-17413 Filed 8-10-23; 8:45 am]

BILLING CODE 9110-04-P